DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On June 2, 2022, OFAC determined that the property and interests in property subject to U.S. jurisdiction of the following persons are blocked under the relevant sanctions authorities listed below.

Individuals:

1. FLORES MENDOZA, Severo (a.k.a. “REY MAGO”), Ameca, Jalisco, Mexico; DOB 09 Nov 1976; POB Tequila, Jalisco, Mexico; nationality Mexico; Gender Male; C.U.R.P. FOMS761109HJCLNV04 (Mexico) (individual) [ILLICIT-DRUGS-E.O.]. Sanctioned pursuant to section 1(b)(i) of Executive Order 14059 of December 15, 2021, “Imposing Sanctions on Foreign Persons Involved in the Global Illicit Drug Trade,” (the “Order”), for having provided, or attempted to provide, financial, material, or technological support for, or goods or services in support of, CARTEL DE JALISCO NUEVA GENERACION (CJNG), a sanctioned person. Also sanctioned pursuant to section 1(b)(iii) of the Order for being owned, controlled, or directed by, or having acted or purported to act for or on behalf of, directly or indirectly, CJNG, a sanctioned person.

2. GODOY ARELLANO, Esther, Mexico; DOB 26 Jul 1968; POB Jerez, Zacatecas, Mexico; nationality Mexico; Gender Female; C.U.R.P. GOAE680726MZSDRS02 (Mexico) (individual) [ILLICIT-DRUGS-E.O.]. Sanctioned pursuant to section 1(b)(i) of the Order, for having provided, or attempted to provide, financial, material, or technological support for, or goods or services in support of, CJNG, a sanctioned person. Also sanctioned pursuant to section 1(b)(iii) of the Order for being owned, controlled, or directed by, or having acted or purported to act for or on behalf of, directly or indirectly, CJNG, a sanctioned person.

3. GONZALEZ ANGUIANO, Moises, Mexico; DOB 01 Apr 1992; POB Culiacan, Sinaloa, Mexico; nationality Mexico; Gender Male; C.U.R.P. GOAM920401HSLNNS03 (Mexico) (individual) [ILLICIT-DRUGS-E.O.]. Sanctioned pursuant to section 1(b)(i) of the Order, for having provided, or attempted to provide, financial, material, or technological support for, or goods or services in support of, CJNG, a sanctioned person. Also sanctioned pursuant to section 1(b)(iii) of the Order for being owned, controlled, or directed by, or having acted or purported to act for or on behalf of, directly or indirectly, CJNG, a sanctioned person.

4. MONTERO PINZON, Julio Cesar (a.k.a. “EL TARJETAS”), Puerto Vallarta, Jalisco, Mexico; DOB 02 Jun 1982; POB Puerto Vallarta, Jalisco, Mexico; nationality Mexico; Gender Male; C.U.R.P. MOPJ820602HJCNNL05 (Mexico) (individual) [ILLICIT-DRUGS-E.O.]. Sanctioned pursuant to section 1(b)(i) of the Order, for having provided, or attempted to provide, financial, material, or technological support for, or goods or services in support of, CJNG, a sanctioned person. Also sanctioned pursuant to section 1(b)(iii) of the Order for being owned, controlled, or directed by, or having acted or purported to act for or on behalf of, directly or indirectly, CJNG, a sanctioned person.

5. RINCON GODOY, Angelberto, Mexico; DOB 02 Jun 1991; POB Autlan de Navarro, Jalisco, Mexico; nationality Mexico; Gender Male; C.U.R.P. RIGA910602HJCNDN04 (Mexico) (individual) [ILLICIT-DRUGS-E.O.]. Sanctioned pursuant to section 1(b)(i) of the Order, for having provided, or attempted to provide, financial, material, or technological support for, or goods or services in support of, CJNG, a sanctioned person. Also sanctioned pursuant to section 1(b)(iii) of the Order for being owned, controlled, or directed by, or having acted or purported to act for or on behalf of, directly or indirectly, CJNG, a sanctioned person.

6. RINCON GODOY, Julio Efrain, Mexico; DOB 19 Sep 1995; POB Autlan de Navarro, Jalisco, Mexico; nationality Mexico; Gender Male; C.U.R.P. RIGJ950919HJCNDL07 (Mexico) (individual) [ILLICIT-DRUGS-E.O.]. Sanctioned pursuant to section 1(b)(i) of the Order, for having provided, or attempted to provide, financial, material, or technological support for, or goods or services in support of, CJNG, a sanctioned person. Also sanctioned pursuant to section 1(b)(iii) of the Order for being owned, controlled, or directed by, or having acted or purported to act for or on behalf of, directly or indirectly, CJNG, a sanctioned person.

Dated: June 2, 2022.
Andrea M. Gacki,
Director, Office of Foreign Assets Control, U.S. Department of the Treasury.

[FR Doc. 2022-12295 Filed 6-7-22; 8:45 am]

BILLING CODE 4810-AL-P